DEPARTMENT OF HOMELAND SECURITY

Federal Emergency Management Agency

[Docket ID FEMA-2012-0003]

Changes in Flood Hazard Determinations

AGENCY: Federal Emergency Management Agency, DHS.

ACTION: Final Notice.

SUMMARY: New or modified Base (1% annual-chance) Flood Elevations (BFEs), base flood depths, Special Flood Hazard Area (SFHA) boundaries or zone designations, and/or the regulatory floodway (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: The effective date for each LOMR is indicated in the table below.

ADDRESSES: Each LOMR is available for inspection at both the respective Community Map Repository address listed in the table below and online through the FEMA Map Service Center at www.msc.fema.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and ninety (90) days have elapsed since that publication. The Deputy Associate Administrator for Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard determinations are the basis for the floodplain management measures that the community is required either to adopt or to show evidence of being already in effect in order to remain qualified for participation in the National Flood Insurance Program (NFIP).

These new or modified flood hazard determinations, together with the floodplain management criteria required by 44 CFR 60.3, are the minimum that are required. They should not be construed to mean that the community must change any existing ordinances that are more stringent in their floodplain management requirements. The community may at any time enact stricter requirements of its own or pursuant to policies established by other Federal, State, or regional entities.

These new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at www.msc.fema.gov.

State and county | Location and case No. | Chief executive officer of community | Community map repository | Effective date of modification | Community No.
Alabama:
Baldwin (FEMA Docket No.: B-1262) | City of Gulf Shores (12-04-2462P) | The Honorable Robert S. Craft, Mayor, City of Gulf Shores, P.O. Box 299, Gulf Shores, AL 36547 | Community Development Department, 1905 West 1st Street, Gulf Shores, AL 36547 | August 13, 2012 | 015005
Mobile (FEMA Docket No.: B-1262) | City of Mobile (12-04-0822P) | The Honorable Samuel L. Jones, Mayor, City of Mobile, P.O. Box 1827, Mobile, AL 36633 | City Hall, Engineering Department, 205 Government Street, 3rd Floor, Mobile, AL 36644 | August 15, 2012 | 015007
Mobile (FEMA Docket No.: B-1262) | Unincorporated areas of Mobile County (11-04-6442P) | The Honorable Connie Hudson, President, Mobile County Board of Commissioners, P.O. Box 1443, Mobile, AL 36633 | Mobile County Government Plaza, Engineering Department, 205 Government Street, 3rd Floor, South Tower, Mobile, AL 36644 | September 7, 2012 | 015008
Arizona:
Maricopa (FEMA Docket No.: B-1262) | City of Tempe (11-09-3942P) | The Honorable Hugh Hallman, Mayor, City of Tempe, P.O. Box 5002, Tempe, AZ 85280 | City Hall, Engineering Department, 31 East 5th Street, Tempe, AZ 85281 | August 10, 2012 | 040054
Maricopa (FEMA Docket No.: B-1262) | Town of Guadalupe (11-09-3942P) | The Honorable Alma Yolanda Solarez, Mayor, Town of Guadalupe, 9241 South Avenida Del Yaqui, Guadalupe, AZ 85283 | Town Hall, 9050 South Avenida Del Yaqui, Guadalupe, AZ 85283 | August 10, 2012 | 040111
Maricopa (FEMA Docket No.: B-1262) | Town of Wickenburg (11-09-3181P) | The Honorable Kelly Blunt, Mayor, Town of Wickenburg, 155 North Tegner Street, Suite A, Wickenburg, AZ 85390 | Town Hall, 155 North Tegner Street, Wickenburg, AZ 85390 | August 24, 2012 | 040056
Maricopa (FEMA Docket No.: B-1262) | Town of Wickenburg (12-09-0272P) | The Honorable Kelly Blunt, Mayor, Town of Wickenburg, 155 North Tegner Street, Suite A, Wickenburg, AZ 85390 | Town Hall, 155 North Tegner Street, Wickenburg, AZ 85390 | August 10, 2012 | 040056
Maricopa (FEMA Docket No.: B-1262) | Unincorporated areas of Maricopa County (11-09-3942P) | The Honorable Max W. Wilson, Chairman, Maricopa County Board of Supervisors, 301 West Jefferson Street, 10th Floor, Phoenix, AZ 85003 | Maricopa County Flood Control District, 2801 West Durango Street, Phoenix, AZ 85009 | August 10, 2012 | 040037
Maricopa (FEMA Docket No.: B-1262) | Unincorporated areas of Maricopa County (11-09-3181P) | The Honorable Max W. Wilson, Chairman, Maricopa County Board of Supervisors, 301 West Jefferson Street, 10th Floor, Phoenix, AZ 85003 | Maricopa County Flood Control District, 2801 West Durango Street, Phoenix, AZ 85009 | August 24, 2012 | 040037
Pima (FEMA Docket No.: B-1262) | Unincorporated areas of Pima County (12-09-0547P) | The Honorable Ramon Valadez, Chairman, Pima County Board of Supervisors, 130 West Congress Street, 11th Floor, Tucson, AZ 85701 | 97 East Congress Street, 3rd Floor, Tucson, AZ 85701 | September 4, 2012 | 040073
Yavapai, (FEMA Docket No.: B-1262) | Town of Prescott Valley (11-09-1612P) | The Honorable Harvey C. Skoog, Mayor, Town of Prescott Valley, 7501 East Civic Circle, Prescott Valley, AZ 86314 | Town Hall, Engineering Division, 7501 East Civic Circle, Prescott Valley, AZ 86314 | September 7, 2012 | 040121
Yavapai (FEMA Docket No.: B-1262) | Unincorporated areas of Yavapai County (11-09-1612P) | The Honorable Thomas Thurman, Chairman, Yavapai County Board of Supervisors, 10 South 6th Street, Cottonwood, AZ 86326 | Yavapai County Flood Control District, 500 South Marina Street, Prescott, AZ 86303 | September 7, 2012 | 040093
California:
Los Angeles (FEMA Docket No.: B-1262) | Unincorporated areas of Los Angeles County (12-09-0924P) | The Honorable Zev Yaroslavsky, Chairman, Los Angeles County Board of Supervisors, 500 West Temple Street, Room 821, Los Angeles, CA 90012 | Los Angeles County Department of Public Works, 900 South Fremont Avenue, Alhambra, CA 91803 | August 13, 2012 | 065043
Riverside (FEMA Docket No.: B-1262) | Unincorporated areas of Riverside County (12-09-1186P) | The Honorable John F. Tavaglione, Chairman, Riverside County Board of Supervisors, P.O. Box 1646, Riverside, CA 92502 | Riverside County Flood Control and Water Conservation District, 1995 Market Street, Riverside, CA 92502 | August 20, 2012 | 060245
San Diego (FEMA Docket No.: B-1262) | City of San Diego (12-09-0919P) | The Honorable Jerry Sanders, Mayor, City of San Diego, 202 C Street, 11th Floor, San Diego, CA 92101 | Development Services Center, 1222 1st Avenue, 3rd Floor, San Diego, CA 92101 | August 24, 2012 | 060295
San Diego (FEMA Docket No.: B-1262) | City of San Diego (12-09-1244P) | The Honorable Jerry Sanders, Mayor, City of San Diego, 202 C Street, 11th Floor, San Diego, CA 92101 | Development Services Center, 1222 1st Avenue, 3rd Floor, San Diego, CA 92101 | August 20, 2012 | 060295
Santa Barbara (FEMA Docket No.: B-1262) | City of Goleta, (12-09-0332P) | The Honorable Edward Easton, Mayor, City of Goleta, 130 Cremona Drive, Suite B, Goleta, CA 93117 | City Hall, 130 Cremona Drive, Goleta, CA 93117 | September 10, 2012 | 060771
Santa Barbara (FEMA Docket No.: B-1262) | City of Santa Barbara (11-09-3358P) | The Honorable Helene Schneider, Mayor, City of Santa Barbara, P.O. Box 1990, Santa Barbara, CA 93101 | City Administrator, 735 Anacapa Street, Santa Barbara, CA 93101 | August 13, 2012 | 060335
Santa Barbara (FEMA Docket No.: B-1262) | Unincorporated areas of Santa Barbara County (12-09-0332P) | The Honorable Doreen Farr, Chair, Santa Barbara County Board of Supervisors, 105 East Anapamu Street, Santa Barbara, CA 93101 | Santa Barbara County Public Works Department, Water Resources Division, Flood Control and Water Conservation District, 123 East Anapamu Street, Santa Barbara, CA 93101 | September 10, 2012 | 060331
Santa Barbara (FEMA Docket No.: B-1262) | Unincorporated areas of Santa Barbara County (11-09-3358P) | The Honorable Doreen Farr, Chair, Santa Barbara County Board of Supervisors, 105 East Anapamu Street, Santa Barbara, CA 93101 | Santa Barbara County Public Works Department, Water Resources Division, Flood Control and Water Conservation District, 123 East Anapamu Street, Santa Barbara, CA 93101 | August 13, 2012 | 060331
Sierra (FEMA Docket No.: B-1262) | Unincorporated areas of Sierra County (12-09-0381P) | The Honorable Peter W. Huebner, Chairman, Sierra County Board of Supervisors, 100 Courthouse Square, Suite 11, Downieville, CA 95936 | Sierra County Department of Planning, Sierra Courthouse Annex, 101 Courthouse Square, Downieville, CA 95936 | September 7, 2012 | 060630
Sierra (FEMA Docket No.: B-1262) | Unincorporated areas of Sierra County (12-09-0382P) | The Honorable Peter W. Huebner, Chairman, Sierra County Board of Supervisors, 100 Courthouse Square, Suite 11, Downieville, CA 95936 | Sierra County Department of Planning, Sierra Courthouse Annex, 101 Courthouse Square, Downieville, CA 95936 | August 24, 2012 | 060630
Colorado:
Arapahoe (FEMA Docket No.: B-1262) | City of Centennial (12-08-0025P) | The Honorable Cathy Noon, Mayor, City of Centennial, 13133 East Arapahoe Road, Centennial, CO 80112 | Southeast Metro Stormwater Authority, 76 Inverness Drive East, Suite A, Centennial, CO 80112 | August 3, 2012 | 080315
Arapahoe (FEMA Docket No.: B-1262) | City of Greenwood Village (12-08-0132P) | The Honorable Ron Rakowsky, Mayor, City of Greenwood Village, 6060 South Quebec Street, Greenwood Village, CO 80111 | City Hall, 6060 South Quebec Street, Greenwood Village, CO 80111 | August 10, 2012 | 080195
Arapahoe (FEMA Docket No.: B-1262) | Unincorporated areas of Arapahoe County (12-08-0025P) | The Honorable Nancy N. Sharpe, Chair, Arapahoe County Board of Commissioners, 5334 South Prince Street, Littleton, CO 80166 | Arapahoe County Public Works and Development Department, 10730 East Briarwood Avenue, Suite 100, Centennial, CO 80112 | August 3, 2012 | 080011
El Paso (FEMA Docket No.: B-1262) | City of Colorado Springs (11-08-1101P) | The Honorable Steve Bach, Mayor, City of Colorado Springs, P.O. Box 1575, Mail Code 0601, Colorado Springs, CO 80903 | City Administration, 30 South Nevada Avenue, Colorado Springs, CO 80903 | August 13, 2012 | 080060
Routt (FEMA Docket No.: B-1262) | Unincorporated areas of Routt County (11-08-0639P) | The Honorable Douglas B. Monger, Chairman, Routt County Board of Commissioners, P.O. Box 773598, Steamboat Springs, CO 80477 | Routt County Courthouse, 136 6th Street, Steamboat Springs, CO 80477 | September 4, 2012 | 080156
Florida:
Broward (FEMA Docket No.: B-1262) | Town of Hillsboro Beach (12-04-2643P) | The Honorable Dan Dodge, Mayor, Town of Hillsboro Beach, 1210 Hillsboro Mile, Hillsboro Beach, FL 33062 | City Hall, 1210 Hillsboro Mile, Hillsboro Beach, FL 33062 | August 10, 2012 | 120040
Lee (FEMA Docket No.: B-1262) | Unincorporated areas of Lee County (11-04-5887P) | The Honorable Frank Mann, Chairman, Lee County Board of Commissioners, P.O. Box 398, Fort Myers, FL 33902 | Lee County Community Development Department, 1500 Monroe Street, 2nd Floor, Fort Myers, FL 33901 | August 10, 2012 | 125124
Manatee (FEMA Docket No.: B-1262) | Unincorporated areas of Manatee County (12-04-1509P) | The Honorable John R. Chappie, Chairman, Manatee County Board of Commissioners, P.O. Box 1000, Bradenton, FL 34206 | Manatee County Building Division, Floodplain Section, 2nd Floor, 1112 Manatee Avenue West, Bradenton, FL 34205 | August 20, 2012 | 120153
Monroe (FEMA Docket No.: B-1262) | Village of Islamorada (12-04-1361P) | The Honorable Michael Reckwerdt, Mayor, Village of Islamorada, 86800 Overseas Highway, Islamorada, FL 33036 | Village Hall, 87000 Overseas Highway, Islamorada, FL 33036 | August 3, 2012 | 120424
Georgia: Forsyth (FEMA Docket No.: B-1262) | Unincorporated areas of Forsyth County (12-04-0122P) | The Honorable Jim Boff, Chairman, Forsyth County Board of Commissioners, 110 East Main Street, Cumming, GA 30040 | 110 East Main Street, Suite 100, Cumming, GA 30040 | August 3, 2012 | 130312
Kentucky: Fayette (FEMA Docket No.: B-1262) | Lexington-Fayette Urban County Government (11-04-7454P) | The Honorable Jim Gray, Mayor, Lexington-Fayette Urban County Government, 200 East Main Street, Lexington, KY 40507 | Lexington-Fayette Urban County Government, Division of Planning, Current Planning Section, 101 East Vine Street, Lexington, KY 40507 | August 14, 2012 | 210067
Nevada: Clark (FEMA Docket No.: B-1262) | City of North Las Vegas (12-09-1067P) | The Honorable Shari L. Buck, Mayor, City of North Las Vegas, 2250 Las Vegas Boulevard North, North Las Vegas, NV 89030 | Public Works Department, 2200 Civic Center Drive, North Las Vegas, NV 89030 | August 10, 2012 | 320007
New York: Westchester (FEMA Docket No.: B-1262) | Village of Scarsdale (11-02-2126P) | The Honorable Miriam Levitt Flisser, Mayor, Village of Scarsdale, 1001 Post Road, Scarsdale, NY 10583 | Village Hall, 1001 Post Road, Scarsdale, NY 10583 | October 9, 2012 | 360932
North Carolina: Mecklenburg (FEMA Docket No.: B-1262) | City of Charlotte (12-04-0261P) | The Honorable Anthony R. Foxx, Mayor, City of Charlotte, 600 East 4th Street, Charlotte, NC 28202 | 700 North Tryon Street, Charlotte, NC 28202 | August 27, 2012 | 370159
Utah: Davis (FEMA Docket No.: B-1262) | City of Layton (12-08-0084P) | The Honorable Steve Curtis, Mayor, City of Layton, 437 North Wasatch Drive, Layton, UT 84041 | Planning Division, 437 North Wasatch Drive, Layton, UT 84041 | August 13, 2012 | 490047

(Catalog of Federal Domestic Assistance No. 97.022, “Flood Insurance.”)

James A. Walke,
Acting Deputy Associate Administrator for Mitigation, Department of Homeland Security, Federal Emergency Management Agency.

[FR Doc. 2012-31300 Filed 12-27-12; 8:45 am]

BILLING CODE 9110-12-P